ENVIRONMENTAL PROTECTION AGENCY

40 CFR Parts 136 and 445

[FRL-6503-5]

RIN 2040-AC23

Effluent Limitations Guidelines, Pretreatment Standards, and New Source Performance Standards for the Landfills Point Source Category

Correction

In rule document 00-1037 beginning on page 3008 in the issue of Wednesday, January 19, 2000, make the following corrections:

1. On page 3050, in the first table, the heading “Maximum daily¹” should head the table's second column, and ``Regulated parameter'' should head the table's first column.

2. On the same page, in the second table, the first column, in the fourth line, ``a-Terpineol'' should read “a-Terpineol”.

3. On the same page, the same table, the same column, in the sixth line, ``p-Cresol'' should read ``p-Cresol''.

4. On the same page, the same table, the second column, in the last line, ``2)'' should read ``(²)''.

5. On the same page, the same table, the third column, the last line should also read ``(²)''.

[FR Doc. C0-1037 Filed 3-15-00; 8:45 am]

BILLING CODE 1505-01-D

SECURITIES AND EXCHANGE COMMISSION

[Release No. 34-42426; File No. SR-NASD-99-54]

Self-Regulatory Organizations; Order Granting Approval to Proposed Rule Change by the National Association of Securities Dealers, Inc. Creating a Voluntary Single Arbitrator Pilot Program

Correction

In notice document 00-4150 beginning on page 8753, in the issue of Tuesday, February 22, 2000, make the following correction:

On page 8753, in the third column, the docket number is corrected to read as set forth above.

[FR Doc. C0-4150 Filed 3-15-00; 8:45 am]

BILLING CODE 1505-01-D

DEPARTMENT OF TRANSPORTATION

National Highway Traffic Safety Administration

[Docket No. NHTSA-99-6586; Notice 01]

RIN 2127-AH76

Preliminary Theft Date; Motor Vehicle Theft Prevention Standard

Correction

In notice document 00-2723 beginning on page 6250 in the issue of Tuesday, February 8, 2000, make the following corrections:

1. On page 6252, in the first line of the table, in the last column, ``3.533'' should read ``3.5334''.

2. On the same page, in the line beginning with ``88'', in the second column, ``Jeep WRangler'' should read ``Jeep Wrangler''.

3. On page 6254, in the sixth line of the table, in the second column, ``Ferrari'' should read ``Ferrari 456'', and in the third column, ``456'' should read ``0''.

[FR Doc. C0-2723 Filed 3-15-00; 8:45 am]

BILLING CODE 1505-01-D

DEPARTMENT OF TRANSPORTATION

Federal Aviation Administration

14 CFR Part 71

[Airspace Docket No. 00-ASO-7]

Amendment of Class E. Airspace; Lexington, NC

Correction

In final rule document 00-4227 beginning on page 10386 in the issue of Monday, February 28, 2000, make the following correction:

§71.1 [Corrected]

On page 10387, in the second column, in the third paragraph under the heading ASO NC E5 Lexington, NC [Revised], in the third line, “long. 89°18'14'' W. ” should read, “ long. 80°18' 14'' W.”.

[FR Doc. C0-4227 Filed 3-15-00; 8:45 am]

BILLING CODE 1505-01-D